FEDERAL EMERGENCY MANAGEMENT AGENCY

Agency Information Collection Activities: Submission for OMB review; Comment Request

ACTION: Notice and request for comments.

SUMMARY: The Federal Emergency Management Agency has submitted the following proposed information collection to the Office of Management and Budget for review and clearance in accordance with the requirements of the Paperwork Reduction Act of 1995 (44 U.S.C. 3507).

Title: National Fire Academy Executive Fire Officer Program Application Form.

Type of Information Collection: Revision of a currently approved collection.

OMB Number: 3067-0194.

Abstract: FEMA Form 95-22, National Fire Academy Executive Fire Officer Program Application for Admission is used by respondents who are senior-level (executive) fire officers to apply into the National Fire Academy's Executive Fire Officer Program. FEMA uses the application form for effective screening/selection of applicants/students.

Affected Public: State, Local or Tribal Government and individuals or households.

Number of Respondents: 300.

Estimated Time per Respondent: 1 hour.

Estimated Total Annual Burden Hours: 300.

Frequency of Response: On Occasion.

Comments: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Section, Program Services and Systems Branch, Facilities and Services Management Division, Administration and Resources Planning Directorate, Federal Emergency Management Agency, 500 C Street, SW, Room 316, Washington, DC 20472, telephone number (202) 646-2625 or facsimile number (202) 646-3347, or email muriel.anderson@fema.gov.

Dated: July 2, 2001.
Muriel B. Anderson,
Acting Director, Program Services and Systems Branch, Facilities and Services Management Division, Administration and Resources Planning Directorate.

[FR Doc. 01-17123 Filed 7-9-01; 8:45 am]

BILLING CODE 6718-01-P